DEPARTMENT OF AGRICULTURE

Agricultural Marketing Service

[PY-00-001]

U.S. Trade Descriptions for Poultry

AGENCY: Agricultural Marketing Service, USDA.

ACTION: Notice of publication of U.S. Trade Description Tentative Standards for Poultry with request for comments.

SUMMARY: The Agricultural Marketing Service (AMS) is publishing the United States (U.S.) Trade Descriptions for Poultry. The U.S. Trade Descriptions for Poultry establish voluntary trade standards for ready-to-cook chicken products produced in the U.S. The descriptions are intended to facilitate wholesale trading of poultry by providing a tool to better communicate product and packaging requirements among buyers and sellers. Comments are requested regarding the description's effectiveness, ease of use, and technical accuracy.

DATES: Use of the descriptions will begin on October 25, 2000 and will continue until AMS makes a final determination about the usefulness of the tentative standards. Comments must be received on or before April 23, 2001.

FOR FURTHER INFORMATION CONTACT: Questions and written comments may be submitted to David Bowden, Chief, Standardization Branch, Poultry Programs, Agricultural Marketing Service, United States Department of Agriculture, Room 3944-South Building, STOP 0259, 1400 Independence Avenue, SW, Washington, DC 20250-0259; faxed to (202) 690-0941; or e-mailed to pydocket@usda.gov. State that your comments refer to Docket No. PY-00-001. Comments received may be viewed over the Internet at

www.ams.usda.gov/poultry/regulations/rulemaking/index.htm

or at the address above between 8 a.m. and 4:30 p.m., Eastern Time, Monday through Friday, except holidays.

Copies of the tentative U.S. Trade Descriptions for Poultry are available over the Internet at www.ams.usda.gov/poultry/regulations/rulemaking/index.htm or by writing the address above, by faxing (202) 690-0941, or by phoning (202) 720-3506. A fee will be charged for color copies of the standard to recover the cost of printing and distribution.

SUPPLEMENTARY INFORMATION:

Background

The Agricultural Marketing Act of 1946, as amended (7 U.S.C. 1621 et seq.) authorizes USDA to develop and maintain agricultural commodity standards to facilitate the domestic and international trading of U.S. agricultural products. In 1998, the USA Poultry and Egg Export Council, an industry trade organization, expressed interest in having AMS develop voluntary U.S. standards to facilitate the domestic and international wholesale trading of ready-to-cook poultry produced in the United States. AMS is calling these standards “U.S. Trade Descriptions for Poultry” and will maintain them as AMS 71.

Currently, AMS maintains voluntary standards that define quality grade levels for poultry products by limiting or excluding product defects such as broken or disjointed bones, exposed flesh, meat and skin discoloration, and freezing defects. AMS 71 U.S. Trade Descriptions for Poultry differ from these standards in that they describe the composition of poultry products by defining characteristics such as which parts of the bird are included, whether bone and skin are present, and how the product is packaged and packed. The two standards may be used in conjunction with each other.

Although AMS intends to develop trade descriptions for all commonly traded poultry products, descriptions for ready-to-cook chicken products are the first to be available for industry use. These standards consist of word and picture descriptions for over 70 chicken product styles and define a numeric coding system that communicates product and packaging characteristics for products to be traded. The descriptions were developed in cooperation with the poultry industry, including national industry organizations.

A seller may self-certify that delivered product satisfies all product and packaging characteristics of the trade description specified by the buyer. For additional assurance, however, the buyer or seller may request that AMS examine and officially certify that the product meets the specified U.S. trade description requirements. The AMS Poultry Grading Service has procedures for certifying that products meet the requirements of the U.S. trade descriptions. This service is available for both officially graded and non-graded products.

AMS believes that the effectiveness and usefulness of a new standard will be best determined through industry use. For this reason, AMS is providing interested parties with 180 days to comment on their effectiveness, ease of use, and technical accuracy.

After the comment period has closed, the Agency will evaluate comments received and other information to determine if the tentative U.S. Trade Descriptions for Poultry should be modified or become official. Once determined, the Agency's decision will be published as a notice in the Federal Register.

AMS encourages high-volume wholesale buyers and sellers of chicken to use the tentative standards to define the products they trade. They can do so by obtaining a copy of the trade descriptions and using the product definitions and numeric codes in the trade descriptions to identify all product and packaging requirements for the products they wish to trade. This code can then be incorporated into the contract with wording such as “Product and packaging shall meet requirements of U.S. Trade Description No. 70101-13-11140001270-1*01100114-184001816-0.” An Internet web site will be developed by AMS to provide on-line, interactive assistance with the specification and documentation process.

Interested parties can obtain further information or assistance in the use of the trade descriptions by contacting the Poultry Programs Standardization Branch by e-mail (Carmen.Humphrey@usda.gov), fax (202 690-0941), or phone (202 720-3506).

Dated: October 18, 2000.
Kathleen A. Merrigan,
Administrator, Agricultural Marketing Service.

[FR Doc. 00-27412 Filed 10-24-00; 8:45 am]

BILLING CODE 3410-02-P